DEPARTMENT OF DEFENSE

Department of the Navy

Record of Decision for the Final Environmental Impact Statement for the Shock Trial of USS MESA VERDE (LPD 19)

AGENCY: Department of the Navy, DoD.

ACTION: Notice of Record of Decision.

SUMMARY: The Department of Navy (Navy), pursuant to Section 102(2)(C) of the National Environmental Policy Act (NEPA) of 1969, 42 United States Code (U.S.C.) 4321 et seq.; the regulations implementing NEPA issued by the Council on Environmental Quality (CEQ), 40 Code of Federal Regulations (CFR) Parts 1500-1508; Navy regulations implementing NEPA procedures (31 CFR 775); and Presidential Executive Order 12114, hereby announces its decision to conduct a shock trial for USS MESA VERDE in the area of the Atlantic Ocean offshore of Naval Station Mayport, Jacksonville, Florida during the summer 2008 (June 21-September 20).

NEPA establishes the procedures Federal agencies must follow in analyzing environmental impacts of major Federal actions within the United States (U.S.) and its territories. Presidential Executive Order 12114 establishes the procedures Federal agencies must follow when environmental impacts of major Federal actions occur outside the U.S. or its territories including the global commons. The Navy is the lead agency for the proposed action with cooperation from the National Marine Fisheries Service (NMFS), who agreed to be a cooperating agency for the Environmental Impact Statement.

USS MESA VERDE will undergo a shock trial in a manner consistent with the proposed action “Alternative Offshore Shock Trial Locations” as described in the Final Environmental Impact Statement (EIS). The Final EIS analyzed in detail three alternative offshore areas (Norfolk, Virginia; Mayport, Florida; and Pensacola, Florida) during all four seasons. The No-action alternative was also analyzed in the Final EIS.

The preferred alternative is to conduct a shock trial offshore of Mayport implementing protective measures (also referred to as mitigation measures) to minimize risk to marine mammals and sea turtles. Although all three test areas meet minimal operational requirements, there is considerable variability between the locations in terms of marine species presence and status (e.g., threatened or endangered), as well as differences with respect to potential impacts to species (i.e., mortality, injury, and acoustic harassment). USS MESA VERDE will be subjected to a series of up to four 10,000-pound explosive charge detonations sometime between June 21, 2008 and September 20, 2008, conducted at a rate of one per week to allow time to perform detailed inspections of the ship's systems. Potential risk of impacts to marine mammals and sea turtles in summer is highest offshore of Norfolk and Pensacola and lowest offshore of Mayport. The Norfolk and Mayport locations are not considered environmentally acceptable during October through April due to the migratory patterns and presence (abundance) of the North Atlantic right whale. Endangered marine species are not likely to be adversely affected by the preferred alternative to conduct the proposed shock trial offshore of Mayport in the summer. All other aspects of the three test areas are similar. Based on the Navy's overseas deployment requirements for the ship class and, in particular, the availability of the ship, conducting the shock trial offshore of Mayport will meet the project purpose and need, satisfy operational requirements, and minimize environmental impacts.

This Record of Decision leaves the selection of primary and secondary test sites within the Mayport test area to be made based on pre-detonation aerial surveys for marine mammal and sea turtle presence. This will ensure that the final test site selected for the shock trial poses the least possible risk to the marine environment.

FOR FURTHER INFORMATION CONTACT: Ms. Dawn Schroeder, NAVSEA 04RE, 1333 Isaac Hull Ave., SE., Building 197, Room 4W1673, Washington Navy Yard, DC 20376, telephone: 202-781-2291, and e-mail: dawn.schroeder@navy.mil.

SUPPLEMENTARY INFORMATION: The SAN ANTONIO Class ship designated as the shock ship for the proposed shock trial is USS MESA VERDE (LPD 19). USS MESA VERDE is the third ship in the SAN ANTONIO Class of nine planned amphibious transport dock ships being acquired by the Navy to meet the Marine Expeditionary Brigade (MEB) amphibious lift requirements. Each new class (or major upgrade) of surface ships must be tested to assess the survivability of the hull and ship's systems and the capability of the ship to protect the crew after a near miss from an underwater explosion. Section 2366 of Title 10, United States Code (10 U.S.C. 2366) requires realistic survivability testing of a covered weapon system to ensure the vulnerability of that system under combat conditions is known. Realistic survivability testing involves firing munitions likely to be encountered in combat to test for ship vulnerability, commonly referred to as “Live Fire Test and Evaluation” (LFT&E). The SAN ANTONIO Class is considered a covered system with an approved LFT&E program. The LFT&E program includes three major areas (computer modeling, surrogate testing, and an at-sea ship shock trial) that together provide for a complete and comprehensive evaluation of the survivability of the SAN ANTONIO Class. Only the at-sea shock trial would provide the real-time data necessary to fully assess ship survivability. The shock trial is a series of underwater detonations that propagate a shock wave through the ship's hull under deliberate and controlled conditions simulating near misses from underwater explosions. The Navy can measure the effect of the shock wave on the hull, equipment, and personnel safety features of the ship. The shock trial is designed to demonstrate that all ship systems are capable of sustained operation performance during combat situations. This information is used to improve the shock resistance of the ship and follow-on ships of the class, thereby reducing the risk of crew injury.

Alternatives: NEPA requires the Navy to evaluate a reasonable range of alternatives for implementing a proposed Federal action. The Final EIS analyzed in detail three alternative offshore areas (Norfolk, Virginia; Mayport, Florida; and Pensacola, Florida) during all four seasons. The No-action alternative was also analyzed in the Final EIS.

Under the No-action alternative, only computer modeling and component testing already completed under the LFT&E were used to evaluate survivability. The No-action alternative was determined to not be a reasonable alternative because it would not provide the information and data necessary to assess the survivability of the ship, as required by 10 U.S.C. 2366. However, the No-action alternative was included in the comparative analysis of alternatives.

Alternative offshore locations for conducting the shock trial were compared from both an operational and environmental perspective. To carry out its national security mission, the Navy operates under stringent scheduling and operational constraints to ready its frontline combat ships for overseas deployment. Since USS MESA VERDE must be prepared to commence its first deployment during Fiscal Year (FY) 2009, a number of key maintenance and training events, as well as other certification tests and trials, must occur in proper sequence to ensure suitable preparations for overseas movement. Accordingly, the availability of USS MESA VERDE would dictate the time of year when the shock trial would be performed. Currently, USS MESA VERDE is scheduled to be available for shock trial testing in the summer of 2008. Based on the availability of USS MESA VERDE during summer 2008, the best operational and environmental alternative is Mayport. This alternative is the Navy's preferred alternative. Of the three location alternatives, Mayport in summer is the environmentally preferred alternative.

The Final EIS analysis focused on identifying alternative offshore locations to conduct the shock trial. USS MESA VERDE is proposed to be homeported on the East coast of the U.S. Therefore, based on operational requirements and personnel quality of life considerations, offshore areas other than East and Gulf coasts were eliminated from consideration. The Navy screened possible East coast and Gulf of Mexico locations according to the following operational criteria: personnel quality of life considerations, water depth, proximity to a Navy facility with homeported vessels or sufficient pier space for support vessels, proximity to an airfield for supporting aircraft, proximity to a Naval Station support facility, proximity to a vessel repair facility, proximity to an ordnance storage/loading station, vessel traffic, weather and sea state, and Gulf Stream conditions. A detailed analysis concluded that three test areas could operationally support the shock trial—Mayport, Florida; Norfolk, Virginia; and Pensacola, Florida. Although all three test areas meet minimal operational requirements, there is considerable variability between the locations in terms of marine species presence and status (e.g., threatened or endangered), as well as differences with respect to potential impacts to species (i.e., mortality, injury, and acoustic harassment).

Potential environmental impacts of conducting a shock trial at the three test areas were analyzed in the Environmental Consequences section of the Final EIS. The test areas differ significantly with respect to potential impacts on marine mammals and sea turtles. Overall, based on the best available scientific data, the risk of mortality, injury, and harassment to marine mammals is lowest at Mayport in summer than at Norfolk or Pensacola. Impacts to sea turtles during the summer would be lowest at Pensacola and Mayport, and highest at Norfolk. Considering all components of the physical, biological, and socioeconomic environment, potential impacts would be less at Mayport than at Norfolk or Pensacola.

Environmental Impacts: Potential environmental impacts of conducting a shock trial at the Mayport, Norfolk, and Pensacola test areas were analyzed in the Final EIS. The analysis demonstrated that most environmental impacts of the shock trial would be less than significant and were similar at Mayport, Norfolk or Pensacola, with the exception of potential impacts on marine mammals and sea turtles.

Potentially significant direct impacts on marine mammals from the pressure wave or sound impulse created by the detonation include mortality, injury, and acoustic harassment. Most marine mammals would be detected during pre-detonation aerial surveys and surface ship observations, which would minimize the risk of death or injury. Application of protective (mitigation) measures would further reduce risk by allowing selection of a test site with low densities of marine mammals within the test area. Even with these protective (mitigation) measures, there are differences in risk levels among the three test areas due to area-wide marine mammal densities and species composition, as well as seasonal differences. Overall, the risk to marine mammals would be higher at Norfolk and Pensacola, than at Mayport in the summer season.

Potential impacts to sea turtles also include mortality, injury, and acoustic harassment. At Mayport, Norfolk or Pensacola, protective (mitigation) measures would result in selection of a test site with low densities of sea turtles. However, there are differences in risk among the three test areas attributable to seasonal differences in sea turtle densities. Overall, modeling results indicate that the risk to sea turtles would be highest at Norfolk, lower at Mayport, and lowest at Pensacola during the summer season.

Considering all components of the physical, biological, and socioeconomic environment, potential impacts would be less at Mayport than at Norfolk and Pensacola.

Protective (Mitigation) Measures: A detailed Marine Mammal and Sea Turtle Protective Measures Plan is presented in the Final EIS. The plan includes similar protective (mitigation) measures as used during the 2001 shock trial of USS WINSTON S. CHURCHILL offshore of Mayport, Florida. No deaths or injuries of marine mammals or sea turtles were detected during the USS WINSTON S. CHURCHILL shock trial. The protective measures plan for USS MESA VERDE shock trial would avoid impacts and minimize risk to marine mammals and sea turtles in the following ways:

Site Selection—Initial, general site selection would be based on operational requirements and aerial surveys. Within the shock trial test area, aerial surveys would be conducted and satellite imagery would be analyzed to select a primary and secondary test site having low densities of marine mammals and sea turtles.

Pre-Detonation Monitoring—Prior to each detonation, aerial and shipboard observers would search for marine mammals and sea turtles at the selected test site. If any marine mammal or sea turtle were detected within the Safety Range (3.5 nautical mile [nm] radius around the detonation point), the detonation would be postponed. The detonation would also be postponed if large Sargassum rafts, debris lines or jellyfish concentrations (sea turtle indicators) were detected within the Safety Range, or if flocks of seabirds or large fish schools were detected within 1 nm of the detonation point. Detonation would not occur until monitoring indicated that the Safety Range is clear of detectable marine mammals, sea turtles, large Sargassum rafts and debris lines, large concentrations of jellyfish, flocks of seabirds, and large schools of fish.

Post-Detonation Monitoring—After each detonation, aerial and shipboard observers would survey the test site. A Marine Animal Response Team (MART) led by a marine mammal veterinarian would document and attempt to recover any dead animals and monitor any animals that appear to be injured. If the survey showed that marine mammals or sea turtles were killed or injured, or if any marine mammals or sea turtles are detected in the Safety Range immediately following a detonation, testing would be halted until procedures for subsequent detonations could be reviewed and changed as necessary. Communications with NMFS stranding network personnel would be maintained throughout the shock trial period.

Coordination and Consultation with NMFS: Because NMFS has jurisdiction by law with respect to issues related to endangered species and marine mammals, NMFS is a cooperating agency on the Final EIS. In addition to a review and comment role, NMFS has two regulatory roles relative to the proposed shock trial. First, NMFS is responsible for administering the Endangered Species Act (ESA) (16 U.S.C. 1531 et seq.) as it applies to listed sea turtles and marine mammals. Early Section 7 formal consultation under the ESA was initiated with NMFS in June 2007. NMFS issued a Final Biological Opinion, dated July 18, 2008, which concluded that the shock trial of the USS MESA VERDE off the coast of Jacksonville, Florida in summer would not likely jeopardize the continued existence of threatened or endangered species, pursuant to the following terms and conditions:

1. The Navy shall implement their proposed protective measures associated with each underwater detonation required by the proposed ship shock trial of the MESA VERDE. These protective measures are summarized in this Record of Decision [Protective (Mitigation) Measures section].

2. Within 120 calendar days of completing the proposed ship shock trial of the USS MESA VERDE, the Navy shall provide the Chief, Endangered Species Division, Office of Protected Resources (with a copy provided to the Assistant Regional Administrator for Protected Resources in NMFS' Southeast Regional Office located in St. Petersburg, Florida) with a written after-action report that shall include the following information:

a. A daily log of the ship shock trial and its associated detonations including descriptions of all protective measures the Navy employed during the trial;

b. Identification of the manpower required to implement the planned protective measures (e.g., number of persons involved in aerial and/or shipboard surveillance efforts);

c. A calculation of the time required on station to complete the proposed shock trial and pre- and post-detonation monitoring activities (i.e., days, hours, minutes);

d. A brief summary of the results, including the effectiveness of the protective measures and observations made (e.g., number of marine animals sighted, behavioral observations);

e. An outline of any adjustments/changes to the protective measures plan implemented during the proposed shock trial (e.g., postponing the exercise due to marine animal sightings within the Safety Range); and

f. A description of any constraints on the proposed shock trial, if any, including time, manpower, funding or other environmental compliance factor.

The biological opinion includes an incidental take statement that exempts the Navy from the prohibitions contained in section 9 of the ESA during the ship shock trial of the USS MESA VERDE. Receipt of the final biological opinion completed the ESA consultation process.

Secondly, NMFS has a regulatory role under the Marine Mammal Protection Act (MMPA) (16 U.S.C. 1361 et seq.). The Navy submitted a request to NMFS for an “incidental take authorization” under section 101(a)(5)(A) of the MMPA. NMFS published a Proposed Rule in the Federal Register on April 11, 2008 (73 FR 71 [19789-19795]) specifying protective measures and reporting requirements for the shock trial. A Final Rule was signed by NMFS on July 18, 2008, which became effective upon its submission by NMFS to the Federal Register for publication, and the Letter of Authorization (LOA) for the test was issued on July 22, 2008. Based on the scientific analyses detailed in the Navy's application and further supported by information and data contained in the Navy's Final EIS for the USS MESA VERDE shock trial, NMFS has determined that the incidental taking of marine mammals resulting from conducting an FSST on USS MESA VERDE in the waters offshore of Mayport, Florida during the summer months would have a negligible impact on the affected marine mammal species or stocks. The Final Rule states that NMFS concurs with the Navy, as provided in its request for incidental take authorization and the Final EIS, that impacts from the shock trial can be mitigated by implementing the protective measures as described in the Final EIS and summarized in this Record of Decision [Protective (Mitigation) Measures section] which mandate a conservative safety range for marine mammal exclusion, incorporating aerial and shipboard monitoring efforts in the program both prior to and after detonation of explosives, and provided detonations are not conducted whenever marine mammals are either detected within the 3.5-nm (6.5-km) Safety Range (or may enter the Safety Range at the time of detonation), or if weather and sea conditions preclude adequate aerial surveillance. With issuance of the Final Rule, NMFS has determined that the requirements of section 101(a)(5)(A) of the MMPA have been met.

Comments Received on the Final EIS: After the Final EIS was distributed to the public for a 30-day review period ending on June 30, 2008, the Navy received three comments: one from the Virginia Department of Environmental Quality, one from U.S. Environmental Protection Agency (EPA) Region 4, and one from Georgia Department of Natural Resources (DNR) Coastal Resources Division. The Virginia Department of Environmental Quality recommended that the shock trial test be conducted at the Mayport location. Conducting the shock trial at this offshore location is identified as the preferred alternative. EPA Region 4 recommended the distribution of post-test monitoring results to federal and state natural resource agencies for review and analysis to assess the success of the proposed protective (mitigation) measures. The regulator of the resources addressed in the Final EIS is NMFS. Therefore, the Navy will adhere to the terms and conditions in the MMPA Final Rule and LOA provided to the Navy by NMFS. In accordance with the Final EIS and the LOA, the Navy will conduct an after action report which will include a summary of post-test monitoring results. The report will be provided to NMFS as required by the LOA. The Georgia DNR concurred with the findings in the Final EIS.

Conclusion: After careful consideration of the purpose and need for the proposed action, the analysis contained in the Final EIS, and the comments received from federal, state, and local agencies, non-governmental organizations, and individual members of the public, the Principal Deputy Assistant Secretary of the Navy for Research, Development, and Acquisition, on behalf of the Navy has decided to proceed with the Preferred Alternative. Conducting USS MESA VERDE shock trial in an area offshore of Mayport, Florida is the alternative that best meets the project purpose and need, satisfies operational criteria, and minimizes environmental impacts. Potentially significant direct impacts resulting from the shock trial include mortality, injury, and disruption of hearing-based behavior (harassment) of marine mammals and sea turtles. While modeling has been conducted to define the potential lethal, injurious, and harassment takes that might occur, it is expected that implementation of protective (mitigation) measures will minimize the risk to marine mammals and sea turtles.

Consistent with this decision and the Proposed Action and analyses described in the Final EIS at the test location and season identified in the Preferred Alternative, the Navy will implement the Preferred Alternative and all protective (mitigation) measures.

Dated: July 22, 2008.
David Architzel,
Vice Admiral, U.S. Navy, Principal Deputy Assistant Secretary of the Navy (Research, Development & Acquisition).

[FR Doc. E8-17242 Filed 7-25-08; 8:45 am]

BILLING CODE 3810-FF-P